GENERAL SERVICES ADMINISTRATION

[Notice MG-2021-04; Docket No. 2021-0002; Sequence No. 31]

Office of Federal High-Performance Green Buildings; Green Building Advisory Committee; Notification of Upcoming Web-Based Public Meetings

AGENCY: Office of Government-wide Policy, General Services Administration (GSA).

ACTION: Notice of public meetings.

SUMMARY: Notice of these web-based public meetings is being provided in accordance with GSA policy. This notice provides the schedule for a series of public meetings of the Green Building Advisory Committee's Federal Building Decarbonization Task Group, which are open for the public to observe. Interested individuals must register to attend as instructed below under SUPPLEMENTARY INFORMATION.

DATES: The Green Building Advisory Committee's (Committee's) Federal Building Decarbonization Task Group (Task Group) will hold recurring web-based meetings on Mondays from January 10, 2022, through September 26, 2022, from 3:00 p.m. to 4:00 p.m., Eastern Time (ET).

The purpose of these web-based meetings is for the Task Group to develop consensus recommendations for submission to the full Committee. The Committee will, in turn, deliberate on the Task Group recommendations and decide whether to proceed with formal advice to GSA based upon these recommendations.

The next phase of the Federal Building Decarbonization Task Group will build on the findings of the first phase of this Task Group, as described by a Task Group presentation posted at https://www.gsa.gov/cdnstatic/Federal_Building_Decarbonization_Task_Group_11-16-21.pdf. The Task Group will discuss and work to develop recommendations to GSA to prioritize federal building decarbonization strategies and develop implementation plans and scenarios.

SUPPLEMENTARY INFORMATION:

Procedures for Attendance

Contact Dr. Ken Sandler, Designated Federal Officer, Green Building Advisory Committee, Office of Federal High-Performance Green Buildings, Office of Government-Wide Policy, General Services Administration, at ken.sandler@gsa.gov or 202-219-1121 to register to attend these public web-based meetings. Submit your full name, organization, email address and phone number. Requests to attend the web-based meetings must be received by 5:00 p.m. ET, on Thursday, January 6, 2022. Meeting call-in information will be provided to interested parties who register by the deadline. (GSA will be unable to provide technical assistance to any listener experiencing technical difficulties. Testing access to the web-based meeting site before the meetings is recommended.)

Additional information about the Committee, including meeting materials and agendas, will be available on-line at http://www.gsa.gov/gbac.

Background

The Administrator of GSA established the Committee on June 20, 2011 (Federal Register/Vol. 76, No. 118) pursuant to Section 494 of the Energy Independence and Security Act of 2007 (42 U.S.C. 17123). Under this authority, the Committee provides independent policy advice and recommendations to GSA to advance federal building innovations in planning, design, and operations to reduce costs, enable agency missions, enhance human health and performance, and minimize environmental impacts.

Kevin Kampschroer,
Federal Director, Office of Federal High-Performance Green Buildings, Office of Government-wide Policy, General Services Administration.

[FR Doc. 2021-27322 Filed 12-16-21; 8:45 am]

BILLING CODE 6820-14-P